DEPARTMENT OF ENERGY

Federal Energy Regulatory Commission

Sunshine Act Meeting

March 20, 2002.

The following notice of meeting is published pursuant to section 3(A) of the Government in the Sunshine Act (Pub. L. No. 94-409), 5 U.S.C 552B:

AGENCY HOLDING MEETING: Federal Energy Regulatory Commission.

DATE AND TIME: March 27, 2002, 10:00 a.m.

PLACE: Room 2C, 888 First Street, NE, Washington, DC 20426.

STATUS: Open.

MATTERS TO BE CONSIDERED: Agenda.

Note: Items listed on the agenda may be deleted without further notice.

CONTACT PERSON FOR MORE INFORMATION: Magalie R. Salas, Secretary, Telephone (202) 208-0400; For a recording listing items stricken from or added to the meeting, call (202) 208-1627.

This is a list of matters to be considered by the Commission. It does not include a listing of all papers relevant to the items on the agenda; however, all public documents may be examined in the reference and information center.

788th—Meeting, March 27, 2002; Regular Meeting, 10:00 a.m.

Administrative Agenda

A-1.

Docket# AD02-1, 000, Agency Administrative Matters

A-2.

Docket# AD02-7, 000, Customer Matters, Reliability, Security and Market Operations

Markets, Tariffs and Rates—Electric

E-1.

Omitted

E-2.

Docket# ER02-913, 000, American Electric Power Company

E-3.

Docket# ER02-854, 000, Florida Power & Light Company

E-4.

Docket# ER02-851, 000, Southern Company Services, Inc.

Other#s EL02-67, 000, Southern Company Services, Inc.

E-5.

Docket# ER02-922, 000, California Independent System Operator Corporation

Other#s EL02-51, 000, California Electricity Oversight Board v. Williams Energy Services Corporation, AES Huntington Beach LLC, AES Alamitos LLC, AES Redondo Beach LLC, Mirant Americas Energy Marketing L.P., Mirant Delta LLC, Reliant Energy Services, Inc., Reliant Energy Coolwater LLC, Reliant Energy Etiwanda LLC, Reliant Energy Mandalay LLC, Reliant Energy Ormand Beach LLC, Dynegy Power Marketing, Inc., Encina Power LLC, Calpine Corporation, Geysers Power Company, LLC, Southern California Edison Company, All other Public and Non-Public Utilities who own or control generation in California and who sell through the Markets or use the transmission lines operated by the California Independent System Operator Corporation and all scheduling Coordinators acting on behalf of the above Entities

E-6.

Docket# ER02-935, 000, Florida Power & Light Company

E-7.

Docket# ER02-924, 000, Michigan Electric Transmission Company

E-8.

Docket# ER02-945, 000, Louisville Gas and Electric Company and Kentucky Utilities Company

E-9. Omitted

E-10. Omitted

E-11. Omitted

E-12.

Docket# EL99-14, 003, Southwestern Electric Cooperative, Inc. v. Soyland Power Cooperative, Inc.

Other#s EL99-14, 004, Southwestern Electric Cooperative, Inc. v. Soyland Power Cooperative, Inc.

E-13.

Docket# ER01-3000, 003, International Transmission Company

Other#s RT01-101, 003, International Transmission Company

EC01-146, 003, DTE Energy Company

E-14.

Omitted

E-15.

Docket# EC02-23, 001, Trans-Elect, Inc., Michigan Transco Holdings, LP, Consumers Energy Company and Michigan Electric Transmission Company

Other#s ER02-320, 001, Trans-Elect, Inc., Michigan Transco Holdings, LP, Consumers Energy Company and Michigan Electric Transmission Company

ER02-320, 002, Trans-Elect, Inc., Michigan Transco Holdings, LP, Consumers Energy Company and Michigan Electric Transmission Company

E-16.

Omitted

E-17.

Docket# ER02-139, 002, Florida Power & Light Company

Other#s ER02-139, 001, Florida Power & Light Company

E-18.

Omitted

E-19.

Docket# ER02-485, 001, Midwest Independent Transmission System Operator, Inc.

E-20.

Docket# EC02-5, 001, Vermont Yankee Nuclear Power Corporation and Entergy Nuclear Vermont Yankee, LLC

Other#s EL02-53, 001, Vermont Yankee Nuclear Power Corporation

ER02-211, 001, Vermont Yankee Nuclear Power Corporation and Entergy Nuclear Vermont Yankee, LLC

E-21.

Docket# TX00-1, 001, United States Department of Energy—Western Area Power Administration, Colorado River Storage ProjectManagement Center

Other#s ER00-896, 001, Public Service Company of New Mexico

E-22.

Docket# ER01-770, 003, Arizona Public Service Company

Other#s ER01-917, 003, Arizona Public Service Company

E-23.

Docket# ER01-889, 010, California Independent System Operator Corporation

Other#s EL00-95, 036, San Diego Gas & Electric Company v. Sellers of Energy and Ancillary Services Into Markets Operated by the California Independent System Operator and the California Power Exchange

ER01-889, 003, California Independent System Operator Corporation

ER01-889, 005, California Independent System Operator Corporation

ER01-889, 006, California Independent System Operator Corporation

ER01-3013, 001, California Independent System Operator Corporation

ER01-3013, 002, California Independent System Operator Corporation

ER01-889, 009, California Independent System Operator Corporation

E-24.

Docket# ER01-3141, 001, American Electric Power Service Corporation

Other#s ER01-3141, 002, American Electric Power Service Corporation

ER01-3141 003 American Electric Power Service Corporation

E-25.

Docket# ER02-84, 001, Nevada Power Company

E-26.

Docket# ER02-42, 001, GWF Energy LLC

Other#s ER00-2998, 003, Southern Company Services, Inc.

ER00-2999, 003, Southern Company Services, Inc.

ER00-3000, 003, Southern Company Services, Inc.

ER00-3001, 003, Southern Company Services, Inc.

E-27.

Docket# EL00-95, 057, San Diego Gas & Electric Company v. Sellers of Energy and Ancillary Service Into Markets Operated by the California Independent System Operator Corporation and the California Power Exchange

E-28.

Docket# EL01-93, 004, Mirant Americas Energy Marketing, L.P., Mirant New England, LLC, Mirant Kendall, LLC and Mirant, LLC v. ISO New England, Inc.

Other#s ER00-2998, 004, Southern Company Services, Inc.

ER00-2999, 004, Southern Company Services, Inc.

ER00-3000, 004, Southern Company Services, Inc.

ER00-3001, 004, Southern Company Services, Inc.

E-29.

Docket# ER01-702, 002, American Transmission Company, LLC

Other#s OA01-8, 001, Wisconsin Electric Power Company

E-30.

Docket# EL01-117, 000, Montana Power Company

E-31.

Docket# EL02-54, 000, San Diego Gas & Electric Company

E-32.

Docket# EL02-46, 000, Generator Coalition v. Entergy Services, Inc.

Other#s ER01-2201, 000, Generator Coalition v. Entergy Services, Inc.

E-33.

Docket# EL02-26, 000, Nevada Power Company and Sierra Pacific Power Company v. Duke Energy Trading and Marketing, L.L.C., Enron Power Marketing, Inc., El Paso Merchant Energy and American Electric Power Services Corporation

Other#s EL02-28, 000, Nevada Power Company and Sierra Pacific Power Company v. Duke Energy Trading and Marketing, L.L.C., Enron Power Marketing, Inc., El Paso Merchant Energy and American Electric Power Services Corporation

EL02-29, 000, Nevada Power Company v. Morgan Stanley Capital Group, Calpine Energy Services, Reliant Energy Services, Mirant Americas Energy Marketing, BP Energy Company and Allegheny Energy Supply Company, L.L.C.

EL02-30, 000, Nevada Power Company v. Morgan Stanley Capital Group, Calpine Energy Services, Reliant Energy Services, Mirant Americas Energy Marketing, BP Energy Company and Allegheny Energy Supply Company, L.L.C.

EL02-31, 000, Nevada Power Company v. Morgan Stanley Capital Group, Calpine Energy Services, Reliant Energy Services, Mirant Americas Energy Marketing, BP Energy Company and Allegheny Energy Supply Company, L.L.C.

EL02-32, 000, Nevada Power Company v. Morgan Stanley Capital Group, Calpine Energy Services, Reliant Energy Services, Mirant Americas Energy Marketing, BP Energy Company and Allegheny Energy Supply Company, L.L.C.

EL02-33, 000, Nevada Power Company and Sierra Pacific Power Company v. Duke Energy Trading and Marketing, L.L.C., Enron Power Marketing, Inc., El Paso Merchant Energy and American Electric Power Services Corporation

EL02-34, 000, Nevada Power Company v. Morgan Stanley Capital Group, Calpine Energy Services, Reliant Energy Services, Mirant Americas Energy Marketing, BP Energy Company and Allegheny Energy Supply Company, L.L.C.

EL02-38, 000, Nevada Power Company and Sierra Pacific Power Company v. Duke Energy Trading and Marketing, L.L.C., Enron Power Marketing, Inc., El Paso Merchant Energy and American Electric Power Services Corporation

EL02-39, 000, Nevada Power Company v. Morgan Stanley Capital Group, Calpine Energy Services, Reliant Energy Services, Mirant Americas Energy Marketing, BP Energy Company and Allegheny Energy Supply Company, L.L.C.

EL02-43, 000, Southern California Water Company v. Mirant Americas Energy Marketing, LP

EL02-56, 000, Public Utility District No. 1 of Snohomish County, Washington v. Morgan Stanley Capital Group, Inc.

E-34.

Docket# EL02-63, 000, Constellation Power Source, Inc.

E-35.

Docket# EL02-44, 000, Indeck Maine Energy, LLC v. ISO New England, Inc.

E-36.

Omitted

E-37.

Docket# ER02-711, 000, American Electric Power Service Corporation

E-38.

Docket# OA96-77, 000, Consumers Energy Company

Other#s ER97-1502, 000, Consumers Energy Company

ER98-1247, 000, Consumers Energy Company

E-39.

Docket# EL00-43, 000, UtiliCorp United, Inc. v. City of Harrisonville, Missouri

Other#s EL00-68, 000, Missouri Joint Municipal Electric Utility Commission

E-40.

Docket# EL99-65, 003, Sithe/Independence Power Partners, L.P. v. Niagara Mohawk Power Corporation

Other#s EL95-38, 003, Sithe/Independence Power Partners, L.P. v. Niagara Mohawk Power Corporation

E-41.

Omitted

E-42.

Docket# TX97-5, 000, Tennessee Power Company

E-43.

Docket# ER99-230, 001, Alliant Services Company

E-44.

Docket# EL01-78, 001, LG&E Energy Marketing, Inc. v. Southern Company Services, Inc. and Georgia Transmission Corporation

E-45.

Docket# EL01-87, 000, South Eastern Energy Corporation and Morgan Stanley Capital Group Inc. v. City of Dalton, Georgia, Georgia Transmission Corporation, Georgia Power Company and the Municipal Electric Authority of Georgia

E-46.

Docket# EL00-95, 045, San Diego Gas & Electric Company v. Sellers of Energy and Ancillary Services Into the Markets Operated by the California Independent System Operator Corporation and the California Power Exchange

Other#s EL00-98, 042, Investigation of Practices of the California Independent System Operator and the California Power Exchange

Miscellaneous Agenda

M-1.

Reserved

Markets, Tariffs, and Rates—Gas

G-1.

Omitted

G-2.

Docket# RP02-164, 000, PG&E Gas Transmission, Northwest Corporation

G-3.

Omitted

G-4.

Docket# RP02-166, 000, Florida Gas Transmission Company

Other#s RP02-167, 000, Florida Gas Transmission Company

G-5.

Docket# RP02-185, 000, Florida Gas Transmission Company

G-6.

Docket# RP96-320, 050, Gulf South Pipeline Company, LP

G-7.

Docket# RP96-320 051 Gulf South Pipeline Company, LP

G-8.

Docket# RP02-190 000 Northern Border Pipeline Company

G-9.

Docket# GT02-11, 000, Northwest Pipeline Corporation

G-10.

Omitted

G-11.

Docket# RP02-179, 000, Williams Gas Pipelines Central, Inc.

G-12.

Docket# RP02-186, 000, Vector Pipeline L.P.

G-13.

Omitted

G-14.

Docket# RP02-174, 000, Columbia Gas Transmission Corporation

G-15.

Docket# RP02-170, 000, Columbia Gas Transmission Corporation

G-16.

Omitted

G-17.

Docket# RP02-163, 000, Florida Gas Transmission Company

G-18.

Omitted

G-19.

Docket# RP02-171, 000, Transcontinental Gas Pipe Line Corporation

G-20.

Docket# RP02-181, 000, Colorado Interstate Gas Company

G-21.

Omitted

G-22.

Omitted

G-23.

Omitted

G-24.

Docket# RP00-477, 000, Tennessee Gas Pipeline Company

Other#s RP98-99, 000, Tennessee Gas Pipeline Company

RP00-477, 001, Tennessee Gas Pipeline Company

RP01-18, 000, Tennessee Gas Pipeline Company

RP01-18, 001, Tennessee Gas Pipeline Company

G-25.

Docket# RP00-478, 000, Honeoye Storage Corporation

Other#s RP00-574, 000, Honeoye Storage Corporation

G-26.

Omitted

G-27.

Docket# RP00-414, 000, PG&E Gas Transmission, Northwest Corporation

Other#s RP01-15, 001, PG&E Gas Transmission, Northwest Corporation

RP01-15, 000, PG&E Gas Transmission, Northwest Corporation

G-28.

Docket# RP00-413, 000, Pine Needle LNG Company, LLC

Other#s RP00-554, 000, Pine Needle LNG Company, LLC

G-29.

Docket# RP00-483, 000, Sabine Pipe Line LLC

Other#s RP00-603, 000, Sabine Pipe Line LLC

G-30.

Docket# RP00-464, 000, Stingray Pipeline Company

Other#s RP00-620, 000, Stingray Pipeline Company

RP00-620, 001, Stingray Pipeline Company

G-31.

Docket# RP02-188, 000, Petal Gas Storage, L.L.C.

Other#s RP00-491, 001, Petal Gas Storage, L.L.C.

CP01-69, 003, Petal Gas Storage, L.L.C.

RP00-491, 000, Petal Gas Storage, L.L.C.

G-32.

Docket# PR02-3, 000, Bay Gas Storage Company, Ltd.

G-33.

Docket# RP01-236, 003, Transcontinental Gas Pipe Line Corporation

Other#s RP00-481, 003, Transcontinental Gas Pipe Line Corporation

RP00-553, 006, Transcontinental Gas Pipe Line Corporation

G-34.

Docket# RP95-197, 041, Transcontinental Gas Pipe Line Corporation

Other#s RP97-71, 029, Transcontinental Gas Pipe Line Corporation

G-35.

Omitted

G-36.

Docket# RP01-262, 003, Columbia Gas Transmission Corporation

G-37.

Docket# RP99-518, 026, PG&E Gas Transmission, Northwest Corporation

G-38.

Docket# RP02-143, 000, Kansas Gas Service v. Enbridge Pipelines KPC

G-39.

Docket# RP00-426, 007, Texas Gas Transmission Corporation

G-40.

Docket# RP02-176, 000, Panhandle Eastern Pipe Line Company

G-41.

Docket# RP00-482, 000, Reliant Energy Gas Transmission Company

Other#s RP00-482, 001, Reliant Energy Gas Transmission Company

RP01-12, 000, Reliant Energy Gas Transmission Company

RP01-317, 000, Reliant Energy Gas Transmission Company

G-42.

Docket# RP02-165, 000, Horizon Pipeline Company, L.L.C.

Energy Projects—Hydro

H-1.

Docket# P-12020, 001, Marseilles Hydro Power, LLC

Other#s P-12150, 000, Marseilles Land and Water Power Company

H-2.

Omitted

H-3.

Docket# P-2622, 009, International Paper Company and Turner Falls Hydro LLC

Other#s P-2622, 010, International Paper Company and Turner Falls Hydro LLC

H-4.

Docket# P-2596, 004, Rochester Gas and Electric Corporation

Other#s P-2596, 002, Rochester Gas and Electric Corporation

H-5.

Docket# P-12055, 000, Dakota Pumped Storage, LLC

Other#s P-12134, 000, South Dakota Conservancy District

Energy Projects—Certificates

C-1.

Docket# CP00-6, 003, Gulfstream Natural Gas System, L.L.C.

C-2.

Docket# CP01-415, 000, East Tennessee Natural Gas Company

C-3.

Docket# CP01-427, 000, Dominion Transmission, Inc.

C-4.

Docket# CP01-438, 000, Northwest Pipeline Corporation

C-5.

Docket# CP02-4, 000, Northwest Pipeline Corporation

C-6.

Docket# CP96-152, 029, Kansas Pipeline Company

C-7.

Docket# CP01-22, 003, North Baja Pipeline LLC

Other#s CP01-23, 002, North Baja Pipeline LLC

CP01-24, 003, North Baja Pipeline LLC

CP01-25, 003, North Baja Pipeline LLC

Magalie R. Salas,
Secretary.

[FR Doc. 02-7197 Filed 3-21-02; 11:31 am]

BILLING CODE 6717-01-P